DEPARTMENT OF TRANSPORTATION

Federal Railroad Administration

[Docket Number FRA-2015-0078]

Petition for Waiver of Compliance

In accordance with part 211 of Title 49 Code of Federal Regulations (CFR), this document provides the public notice that by a document dated July 24, 2015, North American Transit Services Association, a subsidiary of the American Public Transportation Association (APTA), has petitioned the Federal Railroad Administration (FRA) for a waiver of compliance from certain provisions of the Federal railroad safety regulations contained at 49 CFR parts 238—Passenger Equipment Safety Standards and 229—Railroad Locomotive Safety Standards. Specifically, APTA requests relief from 49 CFR 238.105—Train electric hardware and software safety, which requires a written hardware and software safety program to guide the design, development, testing, integration, and verification of software and hardware that controls or monitors equipment safety functions. APTA also requests relief from 49 CFR 238.107—Inspection, testing and maintenance plan; 238.109—Training, qualification and designation program; 238.311—Single car test; 229.315—Operations and maintenance manual; 229.317—Training and qualification program; and 229.319—Operating personnel training. FRA assigned the petition Docket Number FRA-2015-0078.

APTA and its industry partners with support from Amtrak, leveraged standards developed for freight electronically controlled pneumatic brakes (see 49 CFR part 232, subpart G-Electronically Controlled Pneumatic (ECP) Braking Systems) and have completed major efforts toward introduction of ECP brake technology for use in revenue passenger train service. Standards and regulations do not yet exist for ECP brake systems applied to passenger trains; however, in support of the development of standards and regulations, APTA and industry have completed the following major activities:

1. Written a draft standard based on Association of American Railroads S-4200 series standards used for freight ECP applications, and incorporated by reference in 49 CFR part 232, subpart G.

2. Conducted a detailed preliminary Failure Mode Effects and Criticality Analysis to support the development of an eventual train electric software and safety program in compliance with 49 CFR 238.105.

3. Successfully installed and completed static testing of (2) New York Air Brake and (2) Wabtec ECP control valves on four Amtrak Amfleet-1 coach cars.

4. Successfully operated these cars in revenue trains consisting of ECP cars operating in emulation mode with traditional 26-C control valve-fitted coaches.

5. Established a test committee to monitor the development process and peer review all aspects of testing and provide assurance of safe operating practices.

6. Drafted a test plan for full ECP operation in accordance with 49 CFR 238.111—Pre-revenue service acceptance testing plan. Further details of this plan will be developed by the test committee prior to finalizing the test plan and the conduct of any testing.

At this stage in development, dynamic tests of the full ECP brake system are needed to verify performance and to aid in developing industry standards and regulations for ECP design, operation and maintenance for use on passenger trains. To conduct these tests, APTA requests a test waiver that addresses the specified areas in accordance with the provisions of 49 CFR 238.111. During this testing, while approved specifications and standards are being defined based on test results to comply with the requirement of 49 CFR 238.105, it is requested that an interim passenger train hardware and software design process, documentation, testing, and monitoring process be used based on Amtrak test procedures, specific test plans outlined by the test committee, and by brake supplier ECP performance information. To provide alternate compliance with 49 CFR 238.107, 238.109, 229.315, 229.317, and 229.319, it is requested that an interim Amtrak operations and training manual be used. Development of compliant operations training and maintenance practices will be finalized after completion of ECP brake testing, as these will evolve based on experience from on-track pre-revenue and revenue testing. Amtrak will develop draft operating guidelines to permit safe operation of closely monitored ECP brake testing to be approved by the test committee. Amtrak will provide amended operating rules to govern safe train handling procedures related to ECP brake systems and related equipment for the specific route in which testing will occur in accordance with 49 CFR 238.107, and Amtrak will submit a list of locations on its system where ECP brake system repairs may be performed in accordance with 49 CFR 238.111. A passenger train equipped with ECP brake system must be inspected before being released from a shop or repair facility to ensure proper and safe condition.

APTA also requests that an interim single car brake test for ECP be used during this testing while specifications, standards, and regulations are being further defined based on test results. The single car brake test incorporated by reference at 49 CFR 238.311 (APTA SS-M-005-98 Rev. 2.1, Section 14.5) permits brake suppliers to define specific testing procedures for electro-pneumatic controlled brakes. In preparation of pre-revenue and revenue testing of full ECP brake systems, each brake supplier will develop specific single car brake test procedures to ensure safe operation of the ECP units. The test procedures, based on the current standard, will be reviewed by the test committee. Further development may be needed to codify a unifying specific APTA standard for single car brake testing, updating APTA SS-M-005-98 Rev 2.1.

A copy of the petition and all attachments, as well as any written communications concerning the petition, is available for review online at www.regulations.gov and in person at the Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by November 9, 2015 will be considered by FRA before final action is taken. Comments received after that date will be considered as far as practicable.

Anyone is able to search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dot.gov/privacy. See also http://www.regulations.gov/#!privacyNotice for the privacy notice of regulations.gov.

Issued in Washington, DC, on September 16, 2015.
Ron Hynes,
Director, Office of Technical Oversight.

[FR Doc. 2015-24052 Filed 9-22-15; 8:45 am]

BILLING CODE 4910-06-P